DEPARTMENT OF THE INTERIOR

Fish and Wildlife Service

[FWS-R8-MB-2009-N286; 80213-9410-0000-7B]

Federal Sport Fish Restoration; California Department of Fish and Game Fish Hatchery and Stocking Program

AGENCY: Fish and Wildlife Service, Interior.

ACTION: Notice of availability: Final environmental impact report/environmental impact statement (EIR/EIS).

SUMMARY: The U.S. Fish and Wildlife Service (FWS) announces the availability of the final EIR/EIS for the California Department of Fish and Game's (CDFG) Fish Hatchery and Stocking Program (Program). FWS is lead agency, under the National Environmental Policy Act (NEPA) of 1969, as amended, for the EIR/EIS jointly prepared with CDFG. Under the Sport Fish Restoration Act (SFRA), FWS proposes to fund actions associated with the operation of CDFG's 14 trout hatcheries and the Mad River Hatchery for the anadromous steelhead, and stocking from the 15 hatcheries. The Federal action does not include funding CDFG's other anadromous fish hatcheries and associated stocking, nor its issuance of private stocking permits. SFRA funding may also support CDFG's Fishing in the City and Classroom Aquarium Education Programs. CDFG is the lead agency under the California Environmental Quality Act (CEQA) and proposes to implement hatchery operations and stocking funded by FWS, as well as all other components of the CDFG Program, including anadromous fish hatchery operations and associated stocking, and issuance of stocking permits to private parties seeking to stock fish in California's inland waters. The final EIR/EIS presents Program impact analysis, mitigation for impacts, selection of the preferred alternative, and response to comments received during the comment period for the draft EIR/EIS.

DATES: We anticipate that a Record of Decision will be issued by FWS in 2010, but no sooner than 30 days after the Federal Register publication date for this notice of availability.

ADDRESSES: Download copies of the final EIR/EIS from the CDFG Web site at http://www.dfg.ca.gov/news/pubnotice/hatchery/. Alternatively, you may send your request for copies of the final EIR/EIS to Mr. Bart Prose by mail at U.S. Fish and Wildlife Service, 2800 Cottage Way, Room W-1729, Sacramento, CA 95825; by e-mail to bart_prose@fws.gov; or by fax to (916) 978-6155.

FOR FURTHER INFORMATION CONTACT: Mr. Bart Prose: (916) 978-6152 (phone); bart_prose@fws.gov (e-mail).

SUPPLEMENTARY INFORMATION: Under the SFRA (Pub. L. 106-408), FWS has authority to grant Federal funds from the Sport Fish Restoration and Boating Trust Fund to support actions associated with CDFG's Program. The Trust Fund is financed through collection of excise taxes on sport-fishing equipment, electric motors, and sonar; import duties on fishing tackle, yachts, and pleasure craft; the portion of gasoline tax attributable to motorboats and small engines; and interest on the Fund.

CDFG has been rearing and stocking fish in the inland waters of California since the late 1800s, when the State of California enacted legislation to restore and preserve fish in State waters. This legislation called for the newly formed California State Fish and Game Commission to establish “fish breederies” to stock and supply streams, lakes, and bays with both foreign and domestic fish. Since that time in the late 1800s, CDFG has continued that mandate by rearing and stocking both inland trout and anadromous species of fish reared at 24 hatcheries and planting bases located throughout the State.

For the past approximately 100 years, CDFG has stocked nonnative trout throughout the State. CDFG's Program currently operates 14 trout hatcheries throughout the State, rearing 6 trout species and 3 salmon species. Trout hatcheries rear rainbow, golden, cutthroat, brown, lake, and brook trout. Salmon species reared include Chinook, Coho, and kokanee. CDFG's Mad River Hatchery for anadromous fish presently rears only steelhead. Over the past 5 years, CDFG planted over 3.6 million pounds of combined trout and inland salmon, annually, from its 14 trout hatcheries into hundreds of locations, including high mountain lakes, low-elevation reservoirs, and various streams and creeks. The Mad River Hatchery planted over 39,000 pounds of steelhead, annually, into the Mad River.

Funding CDFG Program activities provides freshwater angling opportunities and recreation throughout the State. Operations and stocking associated with the 14 trout hatcheries and the Mad River anadromous fish hatchery are eligible for SFRA grants. FWS does not fund operations or stocking associated with other anadromous hatcheries because they are mitigation hatcheries, which are funded through other sources.

In 2005, State Assembly Bill 7 added Section 13007 to the California Fish and Game Code (FGC 13007), which established annual minimum release targets for hatchery trout based upon sport-fishing license sales, and required CDFG to deposit one-third of sport-fishing license fees into its Hatchery and Inland Fisheries Fund for specified fisheries management purposes. Per CDFG's implementation plan for FGC 13007, funding for the stocking program was scheduled to increase from almost $8 million for State fiscal year (FY) 2005-2006, to $15 million for State FY 2006-2007. In addition, a State court order in 2006 required CDFG to complete an environmental review for its Program. To expedite Program changes due to FGC 13007, the court-ordered environmental review, and associated SFRA funding contributions to the Program, FWS and CDFG agreed to prepare a joint EIR/EIS. FWS published a notice of intent to prepare the EIR/EIS in the Federal Register on August 5, 2008 (73 FR 45470). The notice of availability for the draft EIR/EIS and 45-day comment period published in the Federal Register on October 8, 2009 (74 FR 51872).

The objectives of CDFG's Program are to continue the rearing and stocking of fish for the recreational use of anglers, while balancing the interaction between State- and privately stocked fish and threatened and endangered species. The purpose of FWS's proposed SFRA funding is to support operations of CDFG's 14 trout hatcheries and the Mad River Hatchery for the anadromous steelhead, and associated stocking of fish produced at those hatcheries. SFRA funding also supports CDFG's Fishing in the City and Classroom Aquarium Education Programs. The need addressed by the proposed action is the support of viable recreational fishing in California, through increased angler success that is provided by stocking of hatchery fish in both urban and rural water bodies. Provision of SFRA funds for support of private stocking permits, or operation of other anadromous fish hatcheries and their associated stocking efforts, is outside the scope of actions contemplated by FWS at this time.

Hatchery operations and stocking activities associated with CDFG's inland water hatchery program, including potential increases in fish rearing and stocking in the future, have been evaluated for their effects on the environment. Potential impacts to native amphibians and fish, which have experienced declines within the state, are of chief interest. Results of the evaluations and alternative courses of action are presented in the draft EIR/EIS, in accordance with CEQA (PRC 21000 et seq.) and NEPA (42 U.S.C. 4321 et seq.).

Alternatives

Four alternatives were developed for CDFG's Fish Hatchery and Stocking Program, and each was included for detailed analysis in the draft EIS/EIR. All Program components are subject to CEQA, but only the subset of components with Federal discretionary involvement (associated with SFRA funding) are subject to NEPA; i.e., operations of CDFG's 14 trout hatcheries and the Mad River Hatchery for steelhead, associated stocking of fish produced at those hatcheries, and the Fishing in the City and Classroom Aquarium Education Programs. Only the components of the 4 alternatives pertinent to NEPA are described here.

Preferred Alternative

Under the Preferred Alternative, FWS will continue to provide funding, as modified by certain mitigation provisions, for operations of CDFG's 14 trout hatcheries and the Mad River Hatchery for steelhead, and associated stocking of fish produced at those hatcheries. Hatchery operations will remain largely unchanged from those conducted during the last 5 years, with mitigation applied in some instances to protect water quality, check the spread of invasive species and pathogens, and manage ground water. Decisions on stocking of trout, where potential for significant impacts exist, will be made using a state-wide, pre-stocking evaluation protocol that emphasizes protection of native, sensitive, or legally-protected species. In high mountain lake areas where Aquatic Biodiversity Management Plans (ABMPs) have been prepared, stocking will continue to follow guidelines that ensure expansion of habitats for native amphibians and fish. In areas without ABMPs, trout stocking will be based on site-specific, pre-stocking evaluations of risk to native, sensitive, or legally protected species. ABMPs or other similar plans may be developed and implemented prior to stocking in those locations. Such plans could include eradication of nonnative fish from water bodies currently or formerly harboring sensitive native species, genetic analysis of native fish to determine degree of hybridization, cessation of nonnative trout stocking in waters occupied by native trout populations, and implementation of measures consistent with FWS recovery plans and CDFG management plans. Stocking of Mad River steelhead will continue with measures intended to reduce the interaction between hatchery reared fish and naturally reproducing populations and consistent with the Draft Hatchery and Genetic Management Plan submitted to the National Marine Fisheries Service. The Fishing in the City and Classroom Aquarium Education Programs will continue using conservation measures and uniform protocols developed to ensure that stocking locations are properly screened to protect native, sensitive, and legally protected species. Implementation of Program activities associated with application of pre-stocking evaluation protocols or development of ABMPs, may require additional, site-specific NEPA compliance tiered from the EIR/EIS.

Continuation of Interim Program Provisions Alternative

Under the Continuation of Interim Program Provisions Alternative, FWS will continue to provide funding for operations of CDFG's 14 trout hatcheries and the Mad River Hatchery for steelhead, and associated stocking of fish produced at those hatcheries, consistent with the court-ordered prohibitions and exceptions on fish stocking that were put into place for the interim period between the date of the court order and completion of the EIR/EIS. The interim provisions prohibit stocking nonnative fish in any California fresh water body where surveys have demonstrated the presence of 25 specified amphibian or fish species, or where a survey for those species has not yet been completed. The order does not address the stocking of native fish into native waters. Exceptions to the prohibitions include stocking in human-made reservoirs larger than 1000 acres; stocking in human-made reservoirs less than 1000 acres that are not connected to a river or stream, are not within California red-legged frog critical habitat, or are not where California red-legged frogs are known to exist; stocking as required for State or Federal mitigation; stocking for the purpose of enhancing salmon and steelhead populations and funded by the Commercial Trollers Salmon Stamp; stocking of steelhead from the Mad River Hatchery into the Mad River Basin; CDFG's Aquarium in the Classroom program; stocking actions to support scientific research; and stocking done under an existing private stocking permit or to be completed under a new permit with terms similar to one that was issued in the last 4 years. The Fishing in the City and Classroom Aquarium Education Programs will continue under uniform protocols developed to ensure that stocking locations are properly screened to protect native, sensitive, and legally protected species.

Continuation of Existing Program Alternative

The Continuation of Existing Program Alternative (equivalent to the CEQA No Project Alternative) is continuation of SFRA funding for the existing Fish Hatchery and Stocking Program. The hatcheries' operation and stocking activities undertaken by CDFG over the past 5 years would continue unchanged (some activities may be inconsistent with the court-ordered prohibitions and exceptions), and the SFRA funding process for these activities will continue as it has over the same period.

No Action Alternative

Under the No Action Alternative, FWS would not approve SFRA grant funds to be used by CDFG to support actions associated with operations of the CDFG Fish Hatchery and Stocking Program. Because of State statutory and public trust requirements related to the hatchery program, CDFG would attempt to continue to implement its State hatchery program, seeking other funding sources to replace the Federal funds.

Authority: National Environmental Policy Act (42 U.S.C. 4321 et seq.); Regulations for Implementing the Procedural Provisions of the National Environmental Policy Act (40 CFR 1500-1508).

Dated: December 16, 2009.
Ren Lohoefener,
Regional Director.

[FR Doc. 2010-2509 Filed 2-4-10; 8:45 am]

BILLING CODE 4310-55-P